DEPARTMENT OF ENERGY

Federal Energy Regulatory Commission

Combined Notice of Filings #1

Take notice that the Commission received the following electric corporate filings:

Docket Numbers: EC20-42-000.

Applicants: Griffith Energy LLC.

Description: Supplement to February 28, 2020 Application for Authorization Under Section 203 of the Federal Power Act, et al. of Griffith Energy LLC.

Filed Date: 3/10/20.

Accession Number: 20200310-5189.

Comments Due: 5 p.m. ET 3/20/20.

Take notice that the Commission received the following electric rate filings:

Docket Numbers: ER19-2717-000.

Applicants: Madison ESS, LLC.

Description: Report Filing: Madison ESS Supplemental Refund Report Filing to be effective N/A.

Filed Date: 3/10/20.

Accession Number: 20200310-5000.

Comments Due: 5 p.m. ET 3/31/20.

Docket Numbers: ER20-793-001.

Applicants: American Transmission Systems, Incorporated, PJM Interconnection, L.L.C.

Description: Tariff Amendment: ATSI submits Revised ECSAs, Service Agreement No. 5390 and 5516 to be effective 3/14/2020.

Filed Date: 3/10/20.

Accession Number: 20200310-5158.

Comments Due: 5 p.m. ET 3/20/20.

Docket Numbers: ER20-971-001.

Applicants: Midcontinent Independent System Operator, Inc.

Description: Tariff Amendment: 2020-03-10_SA 3421 MEC-Heartland Divide Wind II Substitute GIA (J583) to be effective 1/28/2020.

Filed Date: 3/10/20.

Accession Number: 20200310-5134.

Comments Due: 5 p.m. ET 3/31/20.

Docket Numbers: ER20-972-001.

Applicants: Midcontinent Independent System Operator, Inc.

Description: Tariff Amendment: 2020-03-11_SA 3422 ITC-Three Waters Wind Farm Substitute GIA (J720) to be effective 1/28/2020.

Filed Date: 3/11/20.

Accession Number: 20200311-5041.

Comments Due: 5 p.m. ET 4/1/20.

Docket Numbers: ER20-991-001.

Applicants: Midcontinent Independent System Operator, Inc.

Description: Tariff Amendment: 2020-03-11_SA 1495 NSP-Walleye Wind Substitute 1st Rev GIA (G253 J569) to be effective 1/29/2020.

Filed Date: 3/11/20.

Accession Number: 20200311-5090.

Comments Due: 5 p.m. ET 4/1/20.

Docket Numbers: ER20-1223-000.

Applicants: PJM Interconnection, L.L.C.

Description: § 205(d) Rate Filing: Amendment to ISA, SA No. 5422; Queue No. AC1-158 to be effective 6/14/2019.

Filed Date: 3/10/20.

Accession Number: 20200310-5151

Comments Due: 5 p.m. ET 3/31/20.

Docket Numbers: ER20-1224-000.

Applicants: Midcontinent Independent System Operator, Inc., Otter Tail Power Company.

Description: § 205(d) Rate Filing: 2020-03-11_SA 3455 OTP-Tatanka Ridge Wind FSA (J493) Astoria BSSB In & Out to be effective 3/12/2020.

Filed Date: 3/11/20.

Accession Number: 20200311-5073.

Comments Due: 5 p.m. ET 4/1/20.

Docket Numbers: ER20-1225-000.

Applicants: Midcontinent Independent System Operator, Inc., Otter Tail Power Company.

Description: § 205(d) Rate Filing: 2020-03-11_SA 3456 OTP-OTP FSA (J510) Astoria BSSB In & Out to be effective 3/12/20.20.

Filed Date: 3/11/20.

Accession Number: 20200311-5074.

Comments Due: 5 p.m. ET 4/1/20.

Docket Numbers: ER20-1226-000.

Applicants: Midcontinent Independent System Operator, Inc., Otter Tail Power Company.

Description: § 205(d) Rate Filing: 2020-03-11_SA 3457 OTP-Tatanka Ridge Wind FSA (J493) Astoria Switching Station to be effective 3/12/2020.

Filed Date: 3/11/20.

Accession Number: 20200311-5079.

Comments Due: 5 p.m. ET 4/1/20.

Docket Numbers: ER20-1227-000.

Applicants: Midcontinent Independent System Operator, Inc., Otter Tail Power Company.

Description: § 205(d) Rate Filing: 2020-03-11_SA 3458 OTP-OTP FSA (J510) Astoria Switching Station to be effective 3/12/2020.

Filed Date: 3/11/20.

Accession Number: 20200311-5082.

Comments Due: 5 p.m. ET 4/1/20.

Docket Numbers: ER20-1228-000.

Applicants: Duke Energy Progress, LLC., Duke Energy Carolinas, LLC.

Description: § 205(d) Rate Filing: DEC-DEP NC Excess ADIT Credit to be effective 1/1/2020.

Filed Date: 3/11/20.

Accession Number: 20200311-5088.

Comments Due: 5 p.m. ET 4/1/20.

Docket Numbers: ER20-1232-000.

Applicants: Louisville Gas and Electric Company.

Description: Tariff Cancellation: EEI IA Notice of Termination to be effective 2/29/2020.

Filed Date: 3/11/20.

Accession Number: 20200311-5098.

Comments Due: 5 p.m. ET 4/1/20.

Docket Numbers: ER20-1233-000.

Applicants: Kentucky Utilities Company.

Description: Tariff Cancellation: KU Concurrence EEI IA Notice of Termination to be effective 2/29/2020.

Filed Date: 3/11/20.

Accession Number: 20200311-5101.

Comments Due: 5 p.m. ET 4/1/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 11, 2020..
Nathaniel J. Davis, Sr.,
Deputy Secretary.

[FR Doc. 2020-05469 Filed 3-16-20; 8:45 am]

BILLING CODE 6717-01-P